DEPARTMENT OF TRANSPORTATION

Federal Railroad Administration

[Docket Number FRA-2004-20000]

Petition for Extension of Waiver of Compliance

Under part 211 of title 49 Code of Federal Regulations (CFR), this document provides the public notice that by letter dated July 26, 2024, Dallas Area Rapid Transit (DART) petitioned the Federal Railroad Administration (FRA) for an extension of a waiver of compliance from certain provisions of the Federal railroad safety regulations contained at 49 CFR parts 229 (Railroad Locomotive Safety Standards) and 234 (Grade Crossing Safety). The relevant Docket Number is FRA-2004-20000.

Specifically, DART seeks an extension of relief, subject to the terms and conditions of its current waiver of compliance from the provisions of 49 CFR 229.125, Headlights and auxiliary lights, and 49 CFR 234.105, Activation failure. This relief was initially granted in 2005 and extended in 2010, 2015, and 2020, to allow operation of DART's rail-fixed guideway public transit lines that share limited connections with the general railroad system, specifically with the Dallas Garland and Northeastern Railroad. DART additionally supplied the event history at its highway-rail crossings from January 2019 to August 2024.¹ DART stated that it “continues to be subject to the Texas State Safety Oversight Program Plan.”

¹ See https://www.regulations.gov/document/FRA-2004-20000-0022.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 2, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.transportation.gov/privacy. See also https://www.regulations.gov/privacy-notice for the privacy notice of regulations.gov.

Issued in Washington, DC.
Carolyn Hayward-Williams,
Director, Office of Railroad Systems and Technology.

[FR Doc. 2024-22740 Filed 10-2-24; 8:45 am]

BILLING CODE 4910-06-P